DEPARTMENT OF TRANSPORTATION

Office of the Secretary

Notice of Aviation Proceedings

Notice of Applications for Certificates of Public Convenience and Necessity and Foreign Air Carrier Permits Filed Under Subpart Q during the Week Ending October 13, 2000. The following Applications for Certificates of Public Convenience and Necessity and Foreign Air Carrier Permits were filed under Subpart Q of the Department of Transportation's Procedural Regulations (See 14 CFR 302.1701 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1995-422.

Date Filed: October 10, 2000.

Due Date for Answers, Conforming Applications, or Motion to Modify Scope: October 31, 2000.

Description: Application of US Airways, Inc. (“US Airways”) pursuant 49 U.S.C. 41102 and 41108 and Subpart B, applies forrenewal of its certificate of public convenience and necessity for Route 690, which authorizes US Airways to engage in scheduled foreign air transportation of persons, property, and mail between Philadelphia, Pennsylvania, and Rome, Italy.

Dorothy Y. Beard,
Federal Register Liaison.

[FR Doc. 00-31922 Filed 12-13-00; 8:45 am]

BILLING CODE 4910-62-P